FEDERAL COMMUNICATIONS COMMISSION

[OMB 3060-0531]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995 (44 U.S.C. 3501-3520), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the PRA that does not display a valid OMB control number.

DATES: Written PRA comments should be submitted on or before May 29, 2015. If you anticipate that you will be submitting comments, but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION: OMB Control Number: 3060-0531.

Title: Sections 101.1011, 101.1325(b), 101.1327(a), 101.527, 101.529 and 101.103, Substantial Service Showing for Local Multipoint Distribution Service (LMDS), 24 GHz and Multiple Address System (MAS).

Form Number: N/A.

Type of Review: Extension of a currently approved collection.

Respondents: Business or other for-profit entities and State, local or Tribal government.

Number of Respondents: 585 respondents; 585 responses.

Estimated Time per Response: 2-20 hours.

Frequency of Response: On occasion and once every 10 years reporting requirements, and third party disclosure requirement.

Obligation to Respond: Required to obtain or retain benefits. Statutory authority for this information collection is contained in 47 U.S.C. Sections 4(i), 303(c), 303(f), 303(g), 303(r), and 309(j) of the Communications Act of 1934, as amended.

Total Annual Burden: 1,824 hours.

Total Annual Cost: $315,150.

Privacy Impact Assessment: No impact(s).

Nature and Extent of Confidentiality: There is no need for confidentiality with this information collection. Respondents may request materials or information submitted to the Commission be withheld from public inspection under 47 CFR 0.459 of the Commission's rules.

Needs and Uses: The Commission is submitting this information collection to the Office of Management and Budget (OMB) as an extension to obtain the full three-year clearance from them. There are no changes to the reporting and third party requirements imposed on Local Multipoint Distribution Service (LMDS) respondents pursuant to 47 CFR 101.103, 101.1011 and similar reporting requirements imposed on Multiple Address System (MAS) Economic Area (EA) licensees pursuant to 47 CFR 101.1325(b), 101.1327(a), and 24 GHz licensees pursuant to 47 CFR 101.527, 101.529. This information is used by the Commission staff to satisfy requirements for licensees to demonstrate substantial service at the time of license renewal. Without this information, the Commission would not be able to carry out its statutory responsibilities. The third party disclosure coordination requirements are necessary to ensure that licensees do not cause interference to each other.

Federal Communications Commission.
Marlene H. Dortch,
Secretary, Office of the Secretary, Office of the Managing Director.

[FR Doc. 2015-07190 Filed 3-27-15; 8:45 am]

BILLING CODE 6712-01-P